DEPARTMENT OF THE INTERIOR

Bureau of Ocean Energy Management

[Docket No. BOEM-2020-0018]

Draft Environmental Impact Statement on the Cook Inlet Lease Sale 258

AGENCY: Bureau of Ocean Energy Management, Interior.

ACTION: Notice of availability of a draft environmental impact statement.

SUMMARY: The Bureau of Ocean Energy Management (BOEM) announces the availability of the draft environmental impact statement (DEIS) for the proposed Cook Inlet Outer Continental Shelf (OCS) oil and gas Lease Sale 258 (Lease Sale 258). This notice marks the start of the public review and comment period and announces three virtual public hearings on the DEIS. After the public hearings and written comments on the DEIS have been reviewed and considered, a final EIS will be prepared. The DEIS and associated information, including the exploration, development and production, and decommissioning scenario (E&D Scenario) are available for review on the agency's website at https://www.boem.gov/ak258.

DATES: Comments are due by December 13, 2021.

BOEM will host three virtual public hearings on the DEIS as follows:

• November 16, 2021; 6:30 p.m.-8:30 p.m. (Alaska daylight time (AKDT))

• November 17, 2021; 2:00 p.m.-4:00 p.m. (AKDT)

• November 18; 6:30 p.m.-8:30 p.m. (AKDT)

Information regarding these hearings can be found at https://www.boem.gov/ak258.

ADDRESSES: You may submit your comments through the Federal eRulemaking Portal at http://www.regulations.gov. In the search box, enter “BOEM-2020-0018” and then click “Search.” Select the document on which you want to comment and follow the instructions to submit comments and to view supporting and related materials available for this notice.

FOR FURTHER INFORMATION CONTACT: Tyler Moore, Section Chief, BOEM, Alaska Regional Office, 3801 Centerpoint Drive, Suite 500, Anchorage, Alaska 99503-5823, or at telephone number (907) 334-5200.

SUPPLEMENTARY INFORMATION: On January 17, 2017, the Secretary of the Interior approved the “Proposed Final 2017-2022 Outer Continental Shelf Oil and Gas Leasing Program” (National OCS Program). The National OCS Program includes proposed Lease Sale 258.

Cook Inlet stretches from the Gulf of Alaska to Anchorage in southcentral Alaska. The proposed action evaluated in the DEIS would offer for lease all available OCS blocks in the northern portion of the Cook Inlet OCS Planning Area. The proposed lease sale area comprises 224 OCS blocks, which covers an area of approximately 1.09 million acres.

On September 10, 2020, BOEM published in the Federal Register the notice of intent (NOI) to prepare an EIS in support of Lease Sale 258. Publication of the NOI opened a public scoping period that extended through October 13, 2020. In September 2020, BOEM held a series of public scoping meetings. The comments received during the public scoping period were used to inform the scope and content of the DEIS.

BOEM published the notice of availability of the DEIS in the Federal Register on January 15, 2021, initiating a 45-day comment period on the DEIS. On February 1, 2021, Executive Order 14008 directed the Secretary of the Interior to pause new oil and gas leasing on public lands and offshore waters, to the extent allowed by applicable law, pending completion of a comprehensive review of Federal oil and gas activities, including a review of climate and other impacts. After issuance of the Executive order, BOEM canceled the comment period and virtual public hearings for the Lease Sale 258 DEIS on February 4, 2021. Since then, BOEM updated its assessment of undiscovered oil and gas resources of the Nation's OCS (https://www.boem.gov/2021-assessment-undiscovered-oil-and-gas-resources-nations-outer) and is reviewing additional information made available since the January 2021 publication of the DEIS.

Proposed action: The proposed action addressed in the DEIS is to conduct an oil and gas lease sale on all available blocks in the northern portion of the Cook Inlet OCS Planning Area (Proposed Action). Proposed Lease Sale 258 would provide qualified bidders with the opportunity to bid on OCS lease blocks in Cook Inlet to gain conditional rights to explore for, develop, and produce oil and natural gas.

The DEIS analyzes the potential environmental impacts of the proposed lease sale on the physical, biological, and human environments in the Cook Inlet area. See 40 CFR 1508.8 ¹ (2019 ed.). The DEIS describes a hypothetical scenario of exploration, development, production, and decommissioning activities that could result from the proposed lease sale and analyzes the potential impacts of those activities on the environment. The DEIS also analyzes reasonable alternatives to the Proposed Action. In addition to the Proposed Action and the no action alternative, BOEM analyzed three alternatives consistent with internal agency scoping, past public input received related to the current and prior National OCS Programs and previous lease sales, and comments received during the scoping period following the NOI that was published in September 2020. The three alternatives address potential impacts to the Cook Inlet distinct population segment (DPS) of beluga whale, the southwest Alaska DPS of northern sea otter, and the Cook Inlet drift gillnet fishery.

¹ Revisions to the Council on Environmental Quality (CEQ) regulations implementing NEPA (40 CFR parts 1500-1508) became effective on September 14, 2020 and apply to any NEPA process commenced after that date. See 40 CFR 1506.13. Because the NEPA process for this action began prior to September 14, 2020, the DEIS was prepared in conformance with the NEPA regulations in effect immediately prior to September 14, 2020.

The Proposed Action defers certain areas from leasing due to potential conflicts with resources of high ecological and subsistence value. These deferred areas include: (1) The majority of the designated critical habitat for beluga whale and northern sea otter and all critical habitat for Stellar seas lions and the North Pacific right whale located within the Cook Inlet OCS Planning Area; (2) a buffer between the area considered for leasing and the Katmai National Park and Preserve, the Kodiak National Wildlife Refuge, and the Alaska Maritime National Wildlife Refuge; and (3) many of the subsistence use areas for the Native Villages of Nanwalek, Seldovia, and Port Graham identified during the Cook Inlet Lease Sale 191 process.

In this DEIS, BOEM has examined the potential environmental effects of activities that could result from the Proposed Action, along with several alternatives. The DEIS is based on BOEM's estimate of production potential from the recently national assessment of potential oil and gas resources in the proposed lease sale area and an associated scenario that estimates a range of potential oil and gas activities, including exploration, seismic surveying, on-lease ancillary activities, exploration and delineation drilling, development, production, and decommissioning.

Comment Submission: The public and all interested parties, including Federal, State, Tribal, and local governments or agencies, are invited to submit written comments on the DEIS and associated information, including the E&D scenario, through the Federal eRulemaking Portal: http://www.regulations.gov. In the search box, enter “BOEM-2020-0018” and then click “Search.” Select the document on which you want to comment and follow the instructions to submit comments and view supporting and related materials available for this notice.

BOEM does not accept anonymous comments. Your name and contact information are required to submit comments on the Federal eRulemaking Portal. Before including your address, phone number, email address, or other personally identifying information in your comment, you should be aware that your entire comment, including your personally identifying information, may be made publicly available at any time. While you can ask BOEM in your comment to withhold your personally identifying information from public review, BOEM cannot guarantee that it will be able to do so.

If you request BOEM to withhold from disclosure your personally identifiable information, you must identify any information contained in your comments that, if released, would constitute a clearly unwarranted invasion of your privacy. You also must briefly describe any possible harmful consequences of the disclosure of information, such as embarrassment, injury, or other harm. All submissions from organizations or businesses and from individuals identifying themselves as representatives or officials of organizations or businesses will be made available for public inspection in their entirety.

Public Hearings: BOEM will host virtual public hearings on the DEIS in October 2021. Information regarding these hearings can be found at https://www.boem.gov/ak258. The purpose of these hearings is to receive public comments on the Draft EIS. These hearings are scheduled as follows:

• November 16, 2021; 6:30 p.m.-8:30 p.m. (Alaska daylight time (AKDT))

• November 17, 2021; 2:00 p.m.-4:00 p.m. (AKDT)

• November 18, 2021; 6:30 p.m.-8:30 p.m. (AKDT)

Authority: 42 U.S.C. 4231 et seq.; 43 CFR 46.415 (2019 ed.).

Amanda B. Lefton,
Director, Bureau of Ocean Energy Management.

[FR Doc. 2021-23505 Filed 10-28-21; 8:45 am]

BILLING CODE 4310-MR-P